DEPARTMENT OF ENERGY

Federal Energy Regulatory Commission

Combined Notice of Filings #1

Take notice that the Commission received the following electric corporate filings:

Docket Numbers: EC20-57-000.

Applicants: Little Bear Solar 1, LLC, Little Bear Solar 3, LLC, Little Bear Solar 4, LLC, Little Bear Solar 5, LLC, Little Bear Master Tenant, LLC.

Description: Application for Authorization Under Section 203 of the Federal Power Act, et al. of Little Bear Solar 1, LLC, et al.

Filed Date: 4/24/20.

Accession Number: 20200424-5313.

Comments Due: 5 p.m. ET 5/15/20.

Docket Numbers: EC20-58-000.

Applicants: Bishop Hill Energy LLC, Blue Sky East, LLC, California Ridge Wind Energy LLC, Canandaigua Power Partners, LLC, Canandaigua Power Partners II, LLC, Erie Wind, LLC, Evergreen Gen Lead, LLC, Evergreen Wind Power, LLC, Evergreen Wind Power III, LLC, Imperial Valley Solar 1, LLC, Niagara Wind Power, LLC, Prairie Breeze Wind Energy LLC, Regulus Solar, LLC, Stetson Holdings, LLC, Stetson Wind II, LLC, Vermont Wind, LLC.

Description: Application for Authorization Under Section 203 of the Federal Power Act, et al. of Bishop Hill Energy LLC, et al.

Filed Date: 4/24/20.

Accession Number: 20200424-5318.

Comments Due: 5 p.m. ET 5/15/20.

Take notice that the Commission received the following electric rate filings:

Docket Numbers: ER10-2718-035; ER10-2719-035; ER17-424-006.

Applicants: East Coast Power Linden Holding, L.L.C., Cogen Technologies Linden Venture, L.P., Footprint Power Salem Harbor Development.

Description: Notice of Non-Material Change in Status of Cogen Technologies Linden Venture, L.P., et al.

Filed Date: 4/24/20.

Accession Number: 20200424-5307.

Comments Due: 5 p.m. ET 5/15/20.

Docket Numbers: ER11-3417-013; ER19-1073-003; ER10-2895-020; ER14-1964-011; ER16-287-006; ER12-161-020; ER13-2143-013; ER10-3167-012; ER13-203-012; ER12-2068-016; ER17-482-005; ER19-1074-003; ER11-3942-021; ER20-1447-001; ER10-2917-020; ER19-1075-003; ER19-529-003; ER19-2429-002; ER13-1613-013; ER12-645-021; ER10-2460-016; ER10-2461-017; ER10-2918-021; ER10-2920-020; ER12-682-017; ER10-2463-016; ER11-2201-020; ER11-3941-018; ER10-2921-020; ER10-2922-020; ER13-1139-020; ER13-1346-012; ER13-17-014; ER14-25-016; ER14-2630-013; ER10-2966-020; ER11-2383-015; ER12-1311-016; ER10-2466-017; ER11-4029-016; ER19-1076-003.

Applicants: Brookfield Asset Management, Inc., Alta Wind VIII, LLC, Bear Swamp Power Company LLC, BIF II Safe Harbor Holdings LLC, BIF III Holtwood LLC, Black Bear Development Holdings, LLC, Black Bear Hydro Partners, LLC, Black Bear SO, LLC, BREG Aggregator LLC, Brookfield Energy Marketing Inc., Brookfield Energy Marketing LP, Brookfield Energy Marketing US LLC, Brookfield Power Piney & Deep Creek LLC, Brookfield Renewable Energy Marketing US LLC, Brookfield Renewable Trading and Marketing LP, Brookfield Smoky Mountain Hydropower LLC, Brookfield White Pine Hydro LLC, Carr Street Generating Station, L.P., Erie Boulevard Hydropower, L.P., Granite Reliable Power, LLC, Great Lakes Hydro America, LLC, Hawks Nest Hydro LLC, Mesa Wind Power Corporation, Rumford Falls Hydro LLC, Safe Harbor Water Power Corporation, Windstar Energy, LLC, Bishop Hill Energy LLC, Blue Sky East, LLC, California Ridge Wind Energy LLC, Canandaigua Power Partners, LLC, Canandaigua Power Partners II, LLC, Erie Wind, LLC, Evergreen Wind Power, LLC, Evergreen Wind Power III, LLC, Imperial Valley Solar 1, LLC, Niagara Wind Power, LLC, Prairie Breeze Wind Energy LLC, Regulus Solar, LLC, Stetson Holdings, LLC, Stetson Wind II, LLC, Vermont Wind, LLC.

Description: Notice of Non-Material Change in Status of the Brookfield Asset Management, Inc. Sellers, et al.

Filed Date: 4/24/20.

Accession Number: 2020.0424-5320

Comments Due: 5 p.m. ET 5/15/20.

Docket Numbers: ER19-391-001.

Applicants: Panda Hummel Station LLC.

Description: Compliance filing: Compliance 2020 information updated to be effective N/A.

Filed Date: 4/24/20.

Accession Number: 20200424-5268.

Comments Due: 5 p.m. ET 5/15/20.

Docket Numbers: ER20-1241-002.

Applicants: Pixelle Androscoggin LLC.

Description: Tariff Amendment: Amended Tariff to be effective 4/25/2020.

Filed Date: 4/27/20.

Accession Number: 20200427-5006.

Comments Due: 5 p.m. ET 5/18/20.

Docket Numbers: ER20-1242-002.

Applicants: Pixelle Energy Services LLC.

Description: Tariff Amendment: Amended Tariff to be effective 4/27/2020.

Filed Date: 4/27/20.

Accession Number: 20200427-5016.

Comments Due: 5 p.m. ET 5/18/20.

Docket Numbers: ER20-1654-000.

Applicants: Public Service Company of Colorado.

Description: Tariff Cancellation: 2020-04-24_PSCo-MEAN-NITS-246-NOC-0.1.0 to be effective 6/23/2020.

Filed Date: 4/24/20.

Accession Number: 20200424-5282.

Comments Due: 5 p.m. ET 5/15/20.

Docket Numbers: ER20-1655-000.

Applicants: Talen Energy Marketing, LLC.

Description: § 205(d) Rate Filing: Market-Based Rate Tariff Revisions to be effective 4/28/2020.

Filed Date: 4/27/20.

Accession Number: 20200427-5117.

Comments Due: 5 p.m. ET 5/18/20.

Docket Numbers: ER20-1656-000.

Applicants: MidAmerican Energy Company.

Description: § 205(d) Rate Filing: Joint Pricing Zone Revenue Allocation Agreement-3rd Revised to be effective 6/1/2020.

Filed Date: 4/27/20.

Accession Number: 20200427-5133.

Comments Due: 5 p.m. ET 5/18/20.

Docket Numbers: ER20-1657-000.

Applicants: Mechanicsville Solar, LLC.

Description: Baseline eTariff Filing: baseline new to be effective 6/1/2020.

Filed Date: 4/27/20.

Accession Number: 20200427-5141.

Comments Due: 5 p.m. ET 5/18/20.

Docket Numbers: ER20-1658-000.

Applicants: Midcontinent Independent System Operator, Inc.

Description: § 205(d) Rate Filing: 2020-04-27_MRES as agent for Atlantic and Pella Revisions to Sch 7,8,9 to be effective 6/1/2020.

Filed Date: 4/27/20.

Accession Number: 20200427-5148.

Comments Due: 5 p.m. ET 5/18/20.

Docket Numbers: ER20-1659-000.

Applicants: Tampa Electric Company.

Description: § 205(d) Rate Filing: Updated Real Power Loss Factor to be effective 5/1/2020.

Filed Date: 4/27/20.

Accession Number: 20200427-5151.

Comments Due: 5 p.m. ET 5/18/20.

Docket Numbers: ER20-1660-000.

Applicants: Mississippi Power Company.

Description: § 205(d) Rate Filing: MRA 29 Rate Case Filing to be effective 6/1/2020.

Filed Date: 4/27/20.

Accession Number: 20200427-5167.

Comments Due: 5 p.m. ET 5/18/20.

Docket Numbers: ER20-1661-000.

Applicants: Midcontinent Independent System Operator, Inc.

Description: § 205(d) Rate Filing: 2020-04-27_SA 3481 A TC-Richland County Solar GIA (J864) to be effective 4/13/2020.

Filed Date: 4/27/20.

Accession Number: 20200427-5183.

Comments Due: 5 p.m. ET 5/18/20.

Docket Numbers: ER20-1662-000.

Applicants: Crystal Lake Wind Energy I, LLC.

Description: Baseline eTariff Filing: Reactive Power Compensation Filing to be effective 6/27/2020.

Filed Date: 4/27/20.

Accession Number: 20200427-5185.

Comments Due: 5 p.m. ET 5/18/20.

Docket Numbers: ER20-1663-000.

Applicants: Public Service Electric and Gas Company, PJM Interconnection, L.L.C.

Description: § 205(d) Rate Filing: PSEG submits Interconnection Agreement, SA No. 5590 with Silver Run to be effective 5/27/2020.

Filed Date: 4/27/20.

Accession Number: 20200427-5186.

Comments Due: 5 p.m. ET 5/18/20.

Docket Numbers: ER20-1664-000.

Applicants: RE Mustang Two Whirlaway LLC.

Description: § 205(d) Rate Filing: RE Mustang Two Whirlaway LLC LGIA Co-Tenancy Agreement to be effective 4/28/2020.

Filed Date: 4/27/20.

Accession Number: 20200427-5187.

Comments Due: 5 p.m. ET 5/18/20.

Take notice that the Commission received the following electric securities filings:

Docket Numbers: ES20-26-000.

Applicants: PJM Interconnection, L.L.C.

Description: Application Under Section 204 of the Federal Power Act for Authorization to Issue Securities, et al. of PJM Interconnection, L.L.C.

Filed Date: 4/24/20.

Accession Number: 20200424-5304.

Comments Due: 5 p.m. ET 5/4/20.

Docket Numbers: ES20-27-000.

Applicants: PJM Settlement, Inc.

Description: Application Under Section 204 of the Federal Power Act for Authorization to Issue Securities, et al. of PJM Settlement, Inc.

Filed Date: 4/24/20.

Accession Number: 20200424-5305.

Comments Due: 5 p.m. ET 5/4/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 27, 2020.
Nathaniel J. Davis, Sr.,
Deputy Secretary.

[FR Doc. 2020-09313 Filed 4-30-20; 8:45 am]

BILLING CODE 6717-01-P